DEPARTMENT OF ENERGY

Federal Energy Regulatory Commission

[Project Nos. 2897-048, 2392-047, 2941-043, 2931-042, 2942-051]

Sappi North America, Inc.; Notice of Availability of Final Environmental Assessment

In accordance with the National Environmental Policy Act of 1969 and the Federal Energy Regulatory Commission's (Commission) regulations, 18 CFR part 380, the Office of Energy Projects has reviewed an application for surrender of license for the Saccarappa Project (P-2897-048) and for amendments to the licenses for the Mallison Falls (P-2932-047), Little Falls (P-2941-043), Gambo (P-2931-042), and Dundee (P-2942-051) projects and have prepared a final Environmental Assessment (EA) for the proposed actions. The projects are located on the Presumpscot River in Cumberland County, Maine. The projects do not occupy federal lands.

The final EA contains Commission staff's analysis of the potential environmental effects of the proposed surrender of license and amendments to licenses, and concludes that the proposed actions, with appropriate environmental protective measures, would not constitute a major federal action that would significantly affect the quality of the human environment.

A copy of the final EA is available for review at the Commission in the Public Reference Room, or may be viewed on the Commission's website at http://www.ferc.gov, using the “eLibrary” link. Enter the docket number, excluding the last three digits in the docket number field, to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support. For further information, contact Jennifer Ambler at (202) 502-8586.

Dated: March 26, 2019.
Kimberly D. Bose,
Secretary.

[FR Doc. 2019-06236 Filed 3-29-19; 8:45 am]

BILLING CODE 6717-01-P